NUCLEAR REGULATORY COMMISSION

[Docket Nos. 52-029-COL, 52-030-COL; ASLBP No. 09-879-04-COL-BD01]

Progress Energy Florida, Inc.; Establishment of Atomic Safety and Licensing Board

Pursuant to delegation by the Commission dated December 29, 1972, published in the Federal Register, 37 FR 28,710 (1972), and the Commission's regulations, see 10 CFR 2.104, 2.300, 2.303, 2.309, 2.311, 2.318, and 2.321, notice is hereby given that an Atomic Safety and Licensing Board (Board) is being established to preside over the following proceeding:

Progress Energy Florida, Inc.

Levy County Nuclear Power Plant, Units 1 and 2

This proceeding concerns a Petition to Intervene and Request for Hearing from the Green Party of Florida, the Ecology Party of Florida, and Nuclear Information and Resource Service, which was submitted in response to a December 8, 2008 Notice of Order, Hearing, and Opportunity to Petition for Leave to Intervene on a Combined License for the Levy County Nuclear Power Plant, Units 1 and 2 (73 FR 74,532). The petitioners challenge the application filed by Progress Energy Florida, Inc. pursuant to Subpart C of 10 CFR Part 52 for a combined license for Levy County Nuclear Power Plant, Units 1 and 2, which would be located in Levy County, Florida.

The Board is comprised of the following administrative judges:

Alex S. Karlin, Chair, Atomic Safety and Licensing Board Panel, U.S. Nuclear Regulatory Commission, Washington, DC 20555-0001.

Anthony J. Baratta, Atomic Safety and Licensing Board Panel, U.S. Nuclear Regulatory Commission, Washington, DC 20555-0001.

William H. Murphy, Atomic Safety and Licensing Board Panel, U.S. Nuclear Regulatory Commission, Washington, DC 20555-0001.

All correspondence, documents, and other materials shall be filed in accordance with the NRC E-Filing rule, which the NRC promulgated in August 2007 (72 FR 49,139).

Issued at Rockville, Maryland, this 23rd day of February 2009.
E. Roy Hawkens,
Chief Administrative Judge, Atomic Safety and Licensing Board Panel.

[FR Doc. E9-4338 Filed 2-27-09; 8:45 am]

BILLING CODE 7590-01-P